DEPARTMENT OF DEFENSE

Department of the Navy

Notice of Intent To Grant Exclusive Patent License; NCP Coatings, Inc.

AGENCY: Department of the Navy, DOD.

ACTION: Notice.

SUMMARY: The Department of the Navy hereby gives notice of its intent to grant to NCP Coatings, Inc., a revocable, nonassignable, exclusive license in the United States and certain foreign countries, the Government-owned inventions described in U.S. Patent Application No. 10/346,099 entitled “Diols Formed by Ring-Opening of Epoxies”, Navy Case No. 84,308; U.S. Patent Application No. 10/346,061 entitled “Diols Formed by Ring-Opening of Epoxies”, Navy Case No. 84,472; and U.S. Patent Application No. 10/979,843 entitled “Diols Formed by Ring-Opening of Epoxies”, Navy Case No. 96,854 and any continuations, divisionals or re-issues thereof.

DATES: Anyone wishing to object to the grant of this license must file written objections along with supporting evidence, if any, not later than January 17, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone (202) 767-3083. Due to U.S. Postal delays, please fax (202) 404-7920, e-mail: rita.manak@nrl.navy.mil or use courier delivery to expedite response.

(Authority: 35 U.S.C. 207, 37 CFR part 404.)

Dated: December 21, 2006.
M.A. Harvison,
Lieutenant Commander, Judge Advocate General's Corp, U.S. Navy, Federal Register Liaison Officer.

[FR Doc. E6-22458 Filed 12-29-06; 8:45 am]

BILLING CODE 3810-FF-P